Title 3—

The President

Proclamation 10497 of November 16, 2022

National Rural Health Day, 2022

By the President of the United States of America

A Proclamation

On National Rural Health Day, we recommit to delivering quality, affordable health care to every zip code in America by making insurance and prescription drugs more affordable, expanding mental health and substance use disorder services, and by keeping rural facilities open and staffed with dedicated doctors, nurses, and other health professionals.

We have made progress, but challenges remain. For too long, rural hospitals and clinics have been closing, resulting in trauma patients in rural areas often needing to travel twice as far for care and experiencing a higher rate of fatality compared to Americans living in urban areas. These closures are also damaging to rural economies, where hospitals are often the biggest employers in town. Hunger and diet-related diseases are also more common in rural areas, deepening health inequities. And the COVID-19 pandemic further strained an already strapped system.

My Administration is fighting to change this. The American Rescue Plan directed $8.5 billion to help rural providers cover soaring costs associated with COVID-19—keeping rural hospitals and clinics open and contributing to nearly 700,000 previously uninsured rural Americans gaining health care coverage. To continue this progress, we established a new Rural Emergency Hospital designation with additional Medicare reimbursement to help improve access to emergency and outpatient care. We have provided $1.5 billion in scholarships and student loan assistance for rural clinicians and nurses, including over 20,000 National Health Service Corps members working in underserved areas. In addition, we launched an innovative program to train rural providers through the Department of Veterans Affairs to better serve the nearly five million veterans who live in rural areas. We are also helping to build and renovate rural facilities while boosting access to telehealth—a lifeline in remote areas—with historic investments in rural broadband and expansion of services that can be delivered via telehealth to providers serving Medicare beneficiaries. Meanwhile, the Inflation Reduction Act is lowering health insurance premiums under the Affordable Care Act and capping drug costs for seniors on Medicare at $2,000 a year and insulin at $35 per prescription per month.

At the same time, we are expanding mental health and substance use disorder services, supporting community health centers, training specialists, and sponsoring initiatives that reduce the stigma often associated with those conditions. Addressing the mental health crisis and beating the drug overdose epidemic, which cuts short so many lives in rural America, are urgent priorities for the Nation and key pillars of my Administration's Unity Agenda.

Finally, we are also improving rural health by making sure no child in America goes to bed hungry and no family has to second-guess the safety of the water they drink. In September, I convened the first White House Conference on Hunger, Nutrition, and Health in over 50 years, and released a national strategy to combat hunger and improve nutrition for every American. As part of the strategy, we are carving a pathway for all children to get free and healthy school meals and expanding efforts to increase access to local foods. This will benefit rural families as well as local farmers. Through the Bipartisan Infrastructure Law, we are working with State, local, and Tribal partners to replace lead pipes, get rid of lead paint, and deliver clean water to every home nationwide.

We all benefit from the work rural Americans do to feed and fuel the Nation. Rural families deserve to pursue their dreams without worrying that the nearest hospital is too far or that their children and jobs will move away because health care is just too hard to find at home. Health care is a right, not a privilege, and I will never quit fighting for rural Americans.

NOW, THEREFORE, I, JOSEPH R. BIDEN JR., President of the United States of America, by virtue of the authority vested in me by the Constitution and the laws of the United States, do hereby proclaim November 17, 2022, as National Rural Health Day. I call upon the people of the United States to reaffirm our dedication to the health and well-being of rural America.

IN WITNESS WHEREOF, I have hereunto set my hand this sixteenth day of November, in the year of our Lord two thousand twenty-two, and of the Independence of the United States of America the two hundred and forty-seventh.

[FR Doc. 2022-25451

Filed 11-18-22; 8:45 am]

Billing code 3395-F3-P